DEPARTMENT OF THE INTERIOR

Bureau of Reclamation

[INT-DES-04-40]

Flaming Gorge Dam, Colorado River Storage Project, Utah

AGENCY: Bureau of Reclamation, Interior.

ACTION: Notice of availability and notice of public hearings for the operation of Flaming Gorge Dam draft environmental impact statement.

SUMMARY: The Bureau of Reclamation (Reclamation), the federal agency responsible for operation of Flaming Gorge Dam, in cooperation with the Bureau of Indian Affairs, Bureau of Land Management, National Park Service, State of Utah Department of Natural Resources, U.S. Fish and Wildlife Service, U.S. Forest Service, Utah Associated Municipal Power Systems, and Western Area Power Administration, has prepared and made available to the public a draft environmental impact statement (EIS) pursuant to Section 102(2)(c) of the National Environmental Policy Act of 1969 (NEPA), as amended, 42 United States Code (U.S.C.) 4332.

DATES: A 60-day public review period commences with the publication of this notice. Written comments on the draft EIS are due by November 15, 2004, and should be submitted to Peter Crookston at the address given below. Public hearings will be held during the month of October in Utah and Wyoming. The public hearings schedule is as follows:

• Tuesday, October 12, 2004, 6 p.m.—Ramada Inn, 182 South Main Street, Moab, Utah.

• Wednesday, October 13, 2004, 6 p.m.—Marriott Hotel, 75 South West Temple, Salt Lake City, Utah.

• Tuesday, October 19, 2004, 6 p.m.—Holiday Inn, 1675 Sunset Drive, Rock Springs, Wyoming.

• Wednesday, October 20, 2004, 6 p.m.—Dutch John Conference Hall, South Blvd., Dutch John, Utah.

• Thursday, October 21, 2004, 6 p.m.—Western Park Convention Center, 300 East 200 South, Vernal, Utah.

ADDRESSES: Written comments on the draft EIS and requests for copies should be addressed to Mr. Peter Crookston, Flaming Gorge EIS Manager, PRO-774, Bureau of Reclamation, Provo Area Office, 302 East 1860 South, Provo, Utah 84606-7317, email: fgeis@uc.usbr.gov. The draft EIS is also available on Reclamation's Web site at http://www.usbr.gov/uc/ (click on Environmental Programs and then click on the Flaming Gorge Dam Environmental Impact Statement).

Copies of the draft EIS are available for public review and inspection at the following locations:

• Bureau of Reclamation, Upper Colorado Regional Office, 125 South State Street, Room 6107, Salt Lake City, Utah 84138-1102.

• Bureau of Reclamation, Provo Area Office, 302 East 1860 South, Provo, Utah 84606-7317.

• Colorado Department of Natural Resources, Attention: Russell George, Executive Director, 1313 Sherman Street, Room 718, Denver, Colorado 80203.

• Colorado Department of Local Affairs, Attention: Eric Bergman, 1313 Sherman Street, Room 521, Denver, Colorado 80203.

• Utah State Clearinghouse, Attention: Carolyn Wright, Department of Natural Resources, 1594 West North Temple, Suite 3710, Salt Lake City, Utah 84114.

• Wyoming Department of Environmental Quality, 122 West 25th Street, Herschler Building 4th Floor—West, Cheyenne, Wyoming 82002.

Libraries

• Salt Lake City Public Library, 210 East 400 South, Salt Lake City, Utah 84111.

• Rock Springs Library, 400 C Street, Rock Springs, Wyoming 82901.

• Sweetwater County Library, 300 North 1st East Street, Green River, Wyoming 82935.

• Daggett County Library, 85 North 1st Street West, Manila, Utah 84046.

• Ute Indian Tribe Library, P.O. Box 190, Fort Duchesne, Utah 84026.

• Green River City Library, 85 South Long, Green River, Utah 84525.

• Mesa County Public Library, 530 Grand Avenue, Grand Junction, Colorado 81501.

• Uintah County Library, 155 East Main Street, Vernal, Utah 84078.

• Duchesne County Library, 70 West Lagoon Street, Roosevelt, Utah 84066.

• Grand County Library, 25 South 100 East, Moab, Utah 84532.

FOR FURTHER INFORMATION CONTACT: Mr. Peter Crookston, Flaming Gorge EIS Manager, PRO-774, Bureau of Reclamation, Provo Area Office, 302 East 1860 South, Provo, Utah 84606-7317; telephone (801) 379-1152; faxogram (801) 379-1159; email: fgeis@uc.usbr.gov.

SUPPLEMENTARY INFORMATION: The Operation of Flaming Gorge Dam Draft Environmental Impact Statement describes the effects of modifying the operation of Flaming Gorge Dam to assist in the recovery of four endangered fish, and their critical habitat, downstream from the dam. The purpose of the proposed action is to operate Flaming Gorge Dam to protect and assist in recovery of the populations and designated critical habitat of four endangered fishes, while maintaining all authorized purposes of the Flaming Gorge Unit of the Colorado River Storage Project (CRSP), particularly those related to the development of water resources in accordance with the Colorado River Compact.

The draft EIS describes and analyzes the potential effects of two alternatives. Under the No Action Alternative, operations under the conditions imposed by the 1992 Biological Opinion would continue. Under the Action Alternative, operations would be in accordance with the flow and temperature regimes specified in the Flow and Temperature Recommendations for Endangered Fish in the Green River Downstream of Flaming Gorge Dam (2000 Flow and Temperature Recommendations), published in September 2000 by the Upper Colorado River Endangered Fish Recovery Program (Recovery Program).

Background

Flaming Gorge Dam, located on the Green River in northeastern Utah about 200 miles east of Salt Lake City, is an authorized storage unit of the Colorado River Storage Project. Flaming Gorge Dam was completed in 1962, and full operation of the dam and reservoir began in 1967. The powerplant, located at the base of the dam, began commercial operation in 1963 and was completed in 1964. Reclamation operates the dam and powerplant, and the Western Area Power Administration markets the power.

Reclamation proposes to take action to protect and assist in recovery of the populations and designated critical habitat of the four endangered fishes found in the Green and Colorado River Basins, while maintaining all authorized purposes of the Flaming Gorge Unit of the CRSP. The four endangered fish species are the humpback chub (Gila cypha), Colorado pikeminnow (Ptychocheilus lucius), razorback sucker (Xyrauchen texanus), and bonytail (Gila elegans). Reclamation would implement the proposed action by modifying the operation of Flaming Gorge Dam, to the extent possible, to achieve the flows and temperatures recommended by participants of the Recovery Program. Reclamation's goal is to implement the Proposed Action and, at the same time, maintain and continue all authorized purposes of the CRSP.

The recommended flows and temperatures are intended to provide water releases of sufficient magnitude and, with the proper timing and duration, to assist in the recovery of the endangered fishes and their designated critical habitat.

Purpose and Need for Action

The purpose of the Proposed Action is to operate Flaming Gorge Dam to protect and assist in recovery of the populations and designated critical habitat of the four endangered fishes, while maintaining all authorized purposes of the Flaming Gorge Unit of the CRSP, particularly those related to the development of water resources in accordance with the Colorado River Compact. The Proposed Action is needed for the following reasons:

• The operation of Flaming Gorge Dam, under its original operating criteria, jeopardized the continued existence of the endangered fishes in the Green River.

• Reclamation is required to comply with the Endangered Species Act (ESA) for the operation of CRSP facilities, including Flaming Gorge Dam. Within the exercise of its discretionary authority, Reclamation must avoid jeopardizing the continued existence of listed species and destroying or adversely modifying designated critical habitat.

• The Reasonable and Prudent Alternative (RPA) to the 1992 Biological Opinion on the Operation of Flaming Gorge Dam required modification of Flaming Gorge releases to benefit the endangered fish, a five-year study period to evaluate winter and spring flows, and reinitiation of discussions with the U.S. Fish and Wildlife Service following the study period to further refine the flow recommendations. With the results of these studies, as well as other relevant information, the Recovery Program developed and approved the 2000 Flow and Temperature Recommendations report for the Green River. These recommendations are an extension of the 1992 jeopardy Biological Opinion RPA. Reclamation committed to assist in meeting flow requirements through the refined operation of Flaming Gorge Dam and other federal reservoirs in the 1987 agreement that formed the Recovery Program.

• Flaming Gorge Dam and Reservoir is the primary water storage and delivery facility on the Green River, upstream from its confluence with the Colorado River. The storage capacity and ability to control water releases of Flaming Gorge Dam allow Reclamation flexibility in providing flow and temperature management to protect and assist in the recovery of endangered fish populations and their critical habitat within specific reaches of the river. Thus, the refined operation of Flaming Gorge Dam is a key element of the Recovery Program.

• The refined operation will offset the adverse effects of flow depletions from the Green River for certain Reclamation water projects in Utah, as defined by existing jeopardy Biological Opinions. Modifying the operation of Flaming Gorge Dam will also serve as the RPA, as defined by the ESA, to offset jeopardy to endangered fishes and their critical habitat that could result from the operation of numerous other existing or proposed water development projects in the Upper Colorado River Basin.

Proposed Federal Action

Reclamation proposes to take action to protect and assist in recovery of the populations and designated critical habitat of the four endangered fishes found in the Green and Colorado River Basins. Reclamation would implement the Proposed Action by modifying the operations of Flaming Gorge Dam, to the extent possible, to achieve the flows and temperatures recommended by participants of the Recovery Program. Reclamation's goal is to implement the Proposed Action and, at the same time, maintain and continue all authorized purposes of the CRSP.

Hearing Process Information: Oral comments at the hearings will be limited to five minutes. The hearing officer may allow any speaker to provide additional oral comments after all persons wishing to comment have been heard. All comments will be formally recorded. Speakers not present when called will lose their privilege in the scheduled order and will be recalled at the end of the scheduled speakers. Speakers are encouraged to provide written versions of their oral comments, and any other additional written materials, for the hearing/administrative record.

Written comments should be received by Reclamation's Provo Area Office using the contact information provided above no later than November 15, 2004, for inclusion in the hearing/administrative record. Under the NEPA process, written and oral comments, received by the due date, are given the same consideration.

Public Disclosure

Our practice is to make comments, including names and home addresses of respondents, available for public review. Individual respondents may request that we withhold their home address from public disclosure, which we will honor to the extent allowable by law. There also may be circumstances in which we would withhold a respondent's identity from public disclosure, as allowable by law. If you wish us to withhold your name and/or address, you must state this prominently at the beginning of your comment. We will make all submissions from organizations or businesses, and from individuals identifying themselves as representatives or officials of organizations or businesses, available for public disclosure in their entirety.

Dated: August 27, 2004.
Rick L. Gold,
Regional Director—UC Region.

[FR Doc. 04-20518 Filed 9-9-04; 8:45 am]

BILLING CODE 4310-MN-P